INTERNATIONAL TRADE COMMISSION

[Inv. No. 337-TA-428]

Certain Integrated Circuit Chipsets, Components Thereof and Products Containing Same; Notice of Commission Decision Not To Review an Initial Determination Granting a Motion To Terminate the Investigation as to Fifteen Claims of One Patent

AGENCY: International Trade Commission.

ACTION: Notice.

SUMMARY: Notice is hereby given that the U.S. International Trade Commission has determined not to review the presiding administrative law judge's (“ALJ's”) initial determination (“ID”) granting complainant's motion for termination of the investigation as to 15 claims of one patent at issue.

FOR FURTHER INFORMATION CONTACT: Tim Yaworski, Office of the General Counsel, U.S. International Trade Commission, 500 E Street, S.W., Washington, D.C. 20436, telephone (202) 205-3096. Hearing-impaired persons are advised that information on this matter can be obtained by contacting the Commission's TDD terminal on 202-205-1810. General information concerning the Commission may also be obtained by accessing its Internet server (http://www.usitc.gov).

SUPPLEMENTARY INFORMATION: The Commission ordered the institution of this investigation on February 4, 2000, based on a complaint filed by Intel Corp. of Santa Clara, California (“Intel”). 65 FR 7059 (2000). The complaint named five respondents: VIA Technologies, Inc., of Taipei, Taiwan; VIA Technologies, Inc., of Fremont, California; First International Computer, Inc., of Taipei, Taiwan; First International Computer of America, Inc., of Fremont, California; and Everex Systems, Inc., of Fremont, California. The complaint, as supplemented, alleges violations of section 337 of the Tariff Act of 1930 in the importation into the United States, the sale for importation, and/or the sale within the United States after importation of certain integrated circuit chipsets and products containing same by reason of infringement of claims 1-3 and 15-16 of U.S. Letters Patent 5,333,276; claims 1-4, 10, 15, 22, 27-30, 36-37, 44-45, and 49 of U.S. Letters Patent 5,740,385; claims 1-12 and 28-48 of U.S. Letters Patent 5,581,782; and claims 1-31 of U.S. Letters Patent 5,548,733 (“the ‘733 patent”).

On June 5, 2000, complainant Intel moved to amend the complaint and notice of investigation by deleting claims 2-4, 7, 15-20, 22, 27-29, and 31 of the ‘733 patent. Motion Docket No. 428-14. There were no responses to the motion.

On June 27, 2000, the ALJ issued an ID (Order No. 14) granting Intel's motion to the extent that he permitted Intel to withdraw claims 2-4, 7, 15-20, 22, 27-29, and 31 of the ‘733 patent from the investigation. No party petitioned for review of the ID.

The authority for the Commission's determination is contained in section 337 of the Tariff Act of 1930, as amended (19 U.S.C. 1337), and in section 210.42 of the Commission's Rules of Practice and Procedure (19 CFR 210.42). Copies of the ALJ's ID and all other nonconfidential documents filed in connection with this investigation are or will be available for inspection during official business hours (8:45 a.m. to 5:15 p.m.) In the Office of the Secretary, U.S. International Trade Commission, 500 E Street, S.W., Washington, D.C. 20436, telephone 202-205-2000.

Issued: July 19, 2000.
By order of the Commission.
Donna R. Koehnke,
Secretary.

[FR Doc. 00-18735 Filed 7-24-00; 8:45 am]

BILLING CODE 7020-02-P